DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[July 7, 2009 through August 6, 2009]
Firm | Address | Date accepted for filing | Products
Mastercraft Specialties, Inc. | 800 Maple Street, Red Lion, PA 17356 | 7/24/2009 | Furniture for college and military dormitories; healthcare/nursing home furniture for patient rooms; store fixtures and point of purchase displays.
SideLifts, Inc. | 1208 B Badger Street, Yorkville, IL 60560 | 7/9/2009 | Electric four-directional lift truck.
Federal Tool & Engineering, LLC | N52 W5338 Portland Road, Cedarburg, WI 53095 | 7/23/2009 | Welded, machined, stamped, fabricated and assembled metal components.
J.B. Hill Boot Company | 335 H. Clark Dr., El Paso, TX 79905 | 7/23/2009 | Leather footwear, cowboy boots.
Dymotek Corporation | 7 Main Street, Ellington, CT 06029 | 7/23/2009 | Dynamic molding technologies, core capabilities, secondary services and support systems.
Tru-Flex Metal Hose Corporation | 2391 S. State Road 263, West Lebanon, IN 47991 | 7/30/2009 | Flexible metal hoses, piping, connectors and associated products.
Precision Inc. D.B.A. Precision Pulley & Idler | 300 SE., 14th Street, Pella, IA 50219 | 7/20/2009 | Conveyor pulleys and idlers.
Overton & Sons Tool & Die, Company, Inc. | 1250 S. Old State Road 67, Mooresville, IN 46158 | 7/20/2009 | Metal tools.
Conitex Sonoco, Inc. | 1302 Industrial Pike, Gastonia, NC 28052-0010 | 7/21/2009 | Paper cones and tubes for spun yarn, and corrugated pallets.
C.R. Hudgins Plating, Inc. | 3600 Candlers Mtn. Rd., Lynchburg, VA 24506 | 7/29/2009 | Electroplating, coating and anodizing metals services.
Flow Sciences, Inc. | 2025 Mercantile Drive, Leland, NC 28451 | 7/23/2009 | Safety enclosures; materials include acrylic, polypropylene, lab-grade phenolic, & stainless steel.
Barons Billiards, Inc. | 1127 Union Avenue, Laconia, NH 03246 | 7/21/2009 | Custom pool tables. They also service and sell all types of billiard accessories, air hockey, shuffleboard and ping pong tables and offer game room design services.
Ultra Heat Inc. | 1314 Perkins Ave., Elkhart, IN 45616 | 7/9/2009 | Heating elements and devices.
ScyTek Laboratories, Inc. | 205 South 600 W, Logan, UT 84321 | 7/9/2009 | Biological laboratory reagent products.
C&C Machine, Inc. | 78 Progress Ave., Tyngsboro, MA 01879 | 7/23/2009 | Custom precision machined prototype and production components.
Caster Concepts, Inc. | 16000 E. Michigan Ave., Albion, MI 49224 | 7/23/2009 | Casters for industrial machines and large equipment; other machined parts.
Arrowhead Containers, Inc | 4330 Clary Blvd., Kansas City, MO 64130 | 7/23/2009 | Corrugated boxes and displays.
Great Eagle Enterprises Corp | 6009 Manchester Road, St Louis, MO 63110-1908 | 7/23/2009 | Die & metal stamping products: brushings, sleeves, covers, handles, enclosure boxes, wrenches, etc.
Gemaco, Inc | 2925 N. 7 Highway, Blue Springs, MO 64014 | 7/23/2009 | Playing cards and table game layouts.
Lampin Corporation | 38 River Road, Uxbridge, MA 01569 | 7/23/2009 | Full CNC capabilities in turned parts from .020″ to 6″diameter and lengths up to 36″.
JEN Manufacturing, Inc. | 3 Latti Farm Road, Millbury, MA 01527 | 8/6/2009 | Polyurethane foam disposable paint brushes and roller refills.
Mar-Bal, Incorporated | 10095 Queens Way, Chagrin Falls, OH 44023 | 7/28/2009 | Thermoset custom molded parts and molding compounds
New England Forest Products | 315 Sawmill Road, P.O. Box, Greenfield, NH 03047 | 7/30/2009 | Hard and softwood.
Burton Industries Inc. | 6202 S. State Rd., Goodrich, MI 48438 | 7/7/2009 | Robotic process equipment, automation, fixtures and special machinery.
Acme Engineering and Manufacturing | P.O. Box 978, Muskogee, OK 74402 | 7/7/2009 | Industrial grade propeller exhaust fans, blowers and centrifuges.
KDK Trimmings & Novelty, Inc. | 47-10 32nd Place, Long Island, NY 11101 | 7/21/2009 | Trimming for apparel. Stitched trimming for women's clothing.
IP Automation, Inc. | 2818 National Place, Colorado, CO 80906 | 7/9/2009 | Machined metal products.
Surtech Industries, Inc. | 915 Borom Road, York, PA 17404 | 7/10/2009 | Finishing services to include: powder coating, metal blasting, polishing and buffing, nickel braze coatings, specialty liquid and Teflon coatings and other services.
RTR Technologies, Inc. | 48 Main Street, Stockbridge, MA 01262 | 7/9/2009 | Track heaters, contact rail heaters and OSC heaters and related controls, auxiliary and freeze protection heaters and related controls for rolling stock, passenger comfort heaters for rolling stock and their related controls, HVAC, door operation and train.
Crownlite Mfg. Corp. | 1546 Ocean Ave., Bohemia, NY 11716 | 7/9/2009 | Metal lighting fixtures.
Bryco Machine, Inc. | 7800 Graphics Drive, Tinley Park, IL 60477 | 7/7/2009 | Complex state-of-the-art machined metal parts in both short and long production runs in addition to prototyping.
Finishes LTD | 3057 Delta Drive, Colorado, CO 80910 | 7/14/2009 | Anodizing and plating coatings for metal forming operations.
Cloverdale | 3015 34th Street, NW., Mandan, ND 58554 | 8/6/2009 | Sausages and other prepared meat products.
Claudes Sauces, Inc. | 935 Loma Verde, El Paso, TX 79936 | 7/10/2009 | Meat sauces and marinades.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: August 11, 2009.
William P. Kittredge,
Program Officer for TAA.

[FR Doc. E9-19712 Filed 8-14-09; 8:45 am]

BILLING CODE 3510-24-P